DEPARTMENT OF COMMERCE

International Trade Administration

[A-533-810]

Stainless Steel Bar From India: Preliminary Results of Changed Circumstances Review and Intent To Reinstate Certain Companies in the Antidumping Duty Order

AGENCY: Enforcement and Compliance, International Trade Administration, Department of Commerce.

SUMMARY: The Department of Commerce (the Department) is conducting a changed circumstances review of the antidumping duty order on stainless steel bar (SS Bar) from India to determine whether Venus Wire Industries Pvt. Ltd. and its affiliates Precision Metals, Sieves Manufacturers (India) Pvt. Ltd., and Hindustan Inox Ltd. (collectively, Venus Group), or Viraj Profiles Ltd. (Viraj) have resumed dumping SS Bar and whether the antidumping order should be reinstated for SS Bar from India produced and/or exported by the Venus Group and produced and/or exported by Viraj. The period of review is July 1, 2015, through June 31, 2016.

We preliminarily determine that the Venus Group and Viraj (collectively, the respondents) have sold SS Bar at less than normal value (NV) and that SS Bar produced and/or exported by the respondents should be reinstated in the antidumping order on SS Bar from India. We will instruct U.S. Customs and Border Protection (CBP) to suspend liquidation of all entries of SS Bar produced and/or exported by the respondents and entered, or withdrawn from warehouse, for consumption on or after the date of publication of this notice in the Federal Register. Interested parties are invited to comment on these preliminary results.

DATES: Applicable October 18, 2017.

FOR FURTHER INFORMATION CONTACT: Thomas Schauer, AD/CVD Operations, Office I, Enforcement and Compliance, International Trade Administration, U.S. Department of Commerce, 1401 Constitution Avenue NW., Washington, DC 20230; telephone (202) 482-0410.

SUPPLEMENTARY INFORMATION:

Scope of the Order

The merchandise covered by the order is SS bar. The subject merchandise is currently classifiable under Harmonized Tariff Schedule of the United States (HTSUS) subheadings: 7222.10.00, 7222.11.00, 7222.19.00, 7222.20.00, 7222.30.00. The HTSUS subheadings are provided for convenience and customs purposes only; the written description of the scope of the order is dispositive.¹

¹ For a complete description of the scope of the order, see Memorandum titled, “Decision Memorandum for the Preliminary Results of the Antidumping Duty Changed Circumstances Review of Stainless Steel Bar from India,” (Preliminary Decision Memorandum), dated concurrently with and hereby adopted by this notice.

Basis for Reinstatement

In requesting revocation, pursuant to 19 CFR 351.222(b)(2)(i)(B), the respondents agreed to immediate reinstatement of the order, so long as any exporter or producer is subject to the order, if the Secretary concludes that subsequent to the revocation, certain respondents sold SS Bar at less than NV.² Under 19 CFR 351.222(b)(2)(i)(B) as long as any exporter or producer is subject to an antidumping duty order which remains in force, an entity previously granted a revocation may be reinstated under that order if it is established that the entity has resumed the dumping of subject merchandise.

² See Stainless Steel Bar from India; Final Results, Rescission of Antidumping Duty Administrative Review in Part, and Determination To Revoke in Part, 69 FR 55409, 55411 (September 14, 2004) (Viraj Revocation) and Stainless Steel Bar from India: Final Results of the Antidumping Duty Administrative Review, and Revocation of the Order, in Part, 76 FR 56401, 56403 (September 13, 2011) (Venus Revocation).

In this case, because other exporters in India remain subject to the SS Bar order, the order remains in effect, and the respondents may be reinstated in the order. The Department conditionally revoked the order with respect to respondents based in part upon their agreement to immediate reinstatement in the antidumping duty order if the Department were to find that the companies resumed dumping of SS Bar from India.³

³ Id.

As discussed in the Preliminary Decision Memorandum, we have examined the respondents' responses and have preliminarily found that the respondents' dumping margin for the review period is greater than de minimis, on the basis of adverse facts available. Accordingly, we preliminarily intend to reinstate the respondents in the antidumping duty order on SS Bar from India.

Methodology

The Department is conducting this changed circumstances review in accordance with section 751(b)(1) of the Tariff Act of 1930, as amended (the Act), and 19 CFR 351.216(d). For a full description of the methodology underlying our conclusions, see the Preliminary Decision Memorandum. The Preliminary Decision Memorandum is a public document and is on file electronically via Enforcement and Compliance's Antidumping and Countervailing Duty Centralized Electronic Service System (ACCESS). ACCESS is available to registered users at https://access.trade.gov, and to all parties in the Central Records Unit, room B8024 of the main Department of Commerce building. In addition, a complete version of the Preliminary Decision Memorandum can be found at http://enforcement.trade.gov/frn/. The signed Preliminary Decision Memorandum and the electronic version of the Preliminary Decision Memorandum are identical in content. A list of the topics discussed in the Preliminary Decision Memorandum is attached as an Appendix to this notice.

Preliminary Results of Review

The Department preliminarily determines that the following weighted-average dumping margin exists for the period June 1, 2015, through May 31, 2016:

⁴ Viraj Alloys, Ltd., Viraj Forgings, Ltd., and Viraj Impoexpo, Ltd., are collectively now known as Viraj Profiles Limited. In July 2006, Viraj Forgings Ltd. merged with Viraj Alloys Ltd.; in April 2007, Viraj Alloys and Viraj Impoexpo Ltd. merged into Viraj Profiles Ltd.

Producer/exporter | Weighted- average dumping margin (percent)
Venus Wire Industries Pvt. Ltd. and its affiliates Precision Metals, Sieves Manufacturers (India) Pvt. Ltd., and Hindustan Inox Ltd | 30.92
Viraj Profiles Ltd ⁴ | 30.92

Disclosure and Public Comment

Normally, the Department discloses to interested parties the calculations performed in connection with the preliminary results of changed circumstances review within five days after public announcement of the preliminary results of changed circumstances review in accordance with 19 CFR 351.224(b). Because the Department preliminarily applied AFA to each of the respondents in this changed circumstances review, in accordance with section 776 of the Act, there are no calculations to disclose.

As explained in the Preliminary Decision Memorandum, we intend to send a final supplemental questionnaire to the Venus Group after these preliminary results of review. We will disclose the schedule for submitting briefs and requesting a hearing to all interested parties at a later date.

Reinstatement and Suspension of Liquidation

Because we have preliminarily established that SS Bar from India produced and/or exported by the respondents is being sold at less than NV, the respondents are hereby preliminarily reinstated in the antidumping duty order. We will instruct CBP to suspend liquidation of all entries of subject merchandise produced and/or exported by the respondents, entered or withdrawn from warehouse, for consumption on or after the date of publication of this notice in the Federal Register. Furthermore, a cash deposit requirement of 30.92 percent will be in effect for all shipments of the subject merchandise produced and/or exported by either the Venus Group or Viraj, entered, or withdrawn from warehouse, for consumption on or after the publication date of this notice. This requirement shall remain in effect until further notice.

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.We are issuing and publishing these preliminary results of review in accordance with sections 751(b)(1) and 777(i)(1) of the Act and 19 CFR 351.221(b) of the Department's regulations.

Dated: October 12, 2017.
Gary Taverman,
Deputy Assistant Secretary for Antidumping and Countervailing Duty Operations, performing the non-exclusive functions and duties of the Assistant Secretary for Enforcement and Compliance.

Appendix

List of Topics Discussed in the Preliminary Decision Memorandum

I. Summary

II. Background

III. Scope of the Order

IV. Collapsing

V. Use of Facts Otherwise Available and Adverse Inferences

a. The Venus Group

b. Viraj

VI. Conclusion

[FR Doc. 2017-22601 Filed 10-17-17; 8:45 am]

BILLING CODE 3510-DS-P